DEPARTMENT OF ENERGY

Federal Energy Regulatory Commission

Combined Notice of Filings; Filings Instituting Proceedings

* * * * *

Take notice that the Commission has received the following Natural Gas Pipeline Rate and Refund Report filings:

Docket Numbers: RP11-2411-000.

Applicants: Northwest Pipeline GP.

Description: Northwest Pipeline GP submits tariff filing per 154.403(d)(2): NWP Fuel Factor Filing, Effective October 1, 2011 to be effective 10/1/2011.

Filed Date: 08/23/2011.

Accession Number: 20110823-5051.

Comment Date: 5 p.m. Eastern Time on Tuesday, September 06, 2011.

Docket Numbers: RP11-2412-000.

Applicants: National Fuel Gas Supply Corporation.

Description: National Fuel Gas Supply Corporation submits tariff filing per 154.204: EFT Changes—Line N Projects to be effective 9/22/2011.

Filed Date: 08/23/2011.

Accession Number: 20110823-5071.

Comment Date: 5 p.m. Eastern Time on Tuesday, September 06, 2011.

Docket Numbers: RP11-2413-000.

Applicants: Kinder Morgan Louisiana Pipeline LLC.

Description: Kinder Morgan Louisiana Pipeline LLC submits tariff filing per 154.204: Remove Expired Agreements to be effective 9/23/2011.

Filed Date: 08/23/2011.

Accession Number: 20110823-5074.

Comment Date: 5 p.m. Eastern Time on Tuesday, September 06, 2011.

Docket Numbers: RP11-2414-000.

Applicants: Pine Needle LNG Company, LLC.

Description: Pine Needle LNG Company, LLC submits tariff filing per 154.402: Pine Needle LNG Company 2011 ACA Filing to be effective 10/1/2011.

Filed Date: 08/24/2011.

Accession Number: 20110824-5033.

Comment Date: 5 p.m. Eastern Time on Tuesday, September 06, 2011.

Docket Numbers: RP11-2415-000.

Applicants: Algonquin Gas Transmission, LLC.

Description: Algonquin Gas Transmission, LLC submits tariff filing per 154.204: Form of Service Agreement Modifications for Exhibit C to be effective 9/24/2011.

Filed Date: 08/24/2011.

Accession Number: 20110824-5041.

Comment Date: 5 p.m. Eastern Time on Tuesday, September 06, 2011.

Docket Numbers: RP11-2416-000.

Applicants: Destin Pipeline Company, L.L.C.

Description: Destin Pipeline Company, L.L.C. submits tariff filing per 154.402: ACA Filing—2011 to be effective 10/1/2011.

Filed Date: 08/24/2011.

Accession Number: 20110824-5042.

Comment Date: 5 p.m. Eastern Time on Tuesday, September 06, 2011.

Docket Numbers: RP11-2417-000.

Applicants: ANR Storage Company.

Description: ANR Storage Company submits tariff filing per 154.203: Volume 2 Baseline to be effective 8/24/2011.

Filed Date: 08/24/2011.

Accession Number: 20110824-5059.

Comment Date: 5 p.m. Eastern Time on Tuesday, September 06, 2011.

Docket Numbers: RP11-2418-000.

Applicants: Questar Pipeline Company.

Description: Questar Pipeline Company submits tariff filing per 154.402: ACA for 2012 to be effective 10/1/2011.

Filed Date: 08/25/2011.

Accession Number: 20110825-5001.

Comment Date: 5 p.m. Eastern Time on Tuesday, September 06, 2011.

Docket Numbers: RP11-2419-000.

Applicants: Questar Southern Trails Pipeline Company.

Description: Questar Southern Trails Pipeline Company submits tariff filing per 154.402: ACA for 2012 to be effective 10/1/2011.

Filed Date: 08/25/2011.

Accession Number: 20110825-5002.

Comment Date: 5 p.m. Eastern Time on Tuesday, September 06, 2011.

Docket Numbers: RP11-2420-000.

Applicants: White River Hub, LLC.

Description: White River Hub, LLC submits tariff filing per 154.402: ACA for 2012 to be effective 10/1/2011.

Filed Date: 08/25/2011.

Accession Number: 20110825-5003.

Comment Date: 5 p.m. Eastern Time on Tuesday, September 06, 2011.

Docket Numbers: RP11-2421-000.

Applicants: Vector Pipeline L.P.

Description: Vector Pipeline L.P. submits tariff filing per 154.402: ACA Charge Filing Effective 10-1-2011 to be effective 10/1/2011.

Filed Date: 08/25/2011.

Accession Number: 20110825-5018.

Comment Date: 5 p.m. Eastern Time on Tuesday, September 06, 2011.

Docket Numbers: RP11-2422-000.

Applicants: Gulf South Pipeline Company, LP.

Description: Gulf South Pipeline Company, LP submits tariff filing per 154.204: Housekeeping filing for Volume “Negotiated Rate and Non-conforming Agreements” to be effective 8/31/2011.

Filed Date: 08/25/2011.

Accession Number: 20110825-5019.

Comment Date: 5 p.m. Eastern Time on Tuesday, September 06, 2011.

Docket Number: RP06-614-000.

Applicants: Transwestern Pipeline Company, LLC.

Description: Petition to Amend Settlement of Transwestern Pipeline Company, LLC.

Filed Date: 08/24/2011.

Accession Number: 20110824-5116.

Comment Date: 5 p.m. Eastern Time on Tuesday, August 30, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

* * * * *

Docket Numbers: RP11-1723-001.

Applicants: Great Lakes Gas Transmission Limited Partnership.

Description: Great Lakes Gas Transmission Limited Partnership submits tariff filing per 154.203: RP11-1723 Compliance to be effective 8/1/2011.

Filed Date: 08/24/2011.

Accession Number: 20110824-5089.

Comment Date: 5 p.m. Eastern Time on Tuesday, September 06, 2011.

Docket Numbers: RP11-2135-001.

Applicants: Southern Star Central Gas Pipeline, Inc.

Description: Southern Star Central Gas Pipeline, Inc. submits tariff filing per 154.205(b): Scheduling Priorities—Withdraw Tariff Record (Sheet No. 241) to be effective 10/1/2011.

Filed Date: 08/24/2011.

Accession Number: 20110824-5024.

Comment Date: 5 p.m. Eastern Time on Tuesday, September 06, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: August 25, 2011.
Nathaniel J. Davis, Sr.,
Deputy Secretary.

[FR Doc. 2011-22375 Filed 8-31-11; 8:45 am]

BILLING CODE 6717-01-P